DEPARTMENT OF HOMELAND SECURITY

Coast Guard

33 CFR Part 117

[Docket No. USCG-2012-0550]

Drawbridge Operation Regulation; Oakland Inner Harbor Tidal Canal, Alameda, CA

AGENCY: Coast Guard, DHS.

ACTION: Notice of temporary deviation from regulations.

SUMMARY: The Coast Guard has issued a temporary deviation from the operating regulation that governs the Park Street Drawbridge across Oakland Inner Harbor Tidal Canal, mile 5.2, at Alameda, CA. The deviation is necessary to allow the County of Alameda Public Works Agency to perform necessary repairs on the drawbridge. This deviation allows single leaf operation of the double leaf bascule style drawbridge during the project.

DATES: This deviation is effective from 7 a.m., July 9, 2012 to 6 p.m. on July 18, 2012.

ADDRESSES: Documents mentioned in this preamble as being available in the docket are part of the docket USCG-2012-0550 and are available online by going to http://www.regulations.gov, inserting USCG-2012-0550 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email David H. Sulouff, Chief, Bridge Section, Eleventh Coast Guard District; telephone 510-437-3516, email David.H.Sulouff@uscg.mil. If you have questions on viewing the docket, call Renee V. Wright, Program Manager, Docket Operations, telephone 202-366-9826.

SUPPLEMENTARY INFORMATION: The County of Alameda Public Works Department has requested a temporary change to the operation of the Park Street Drawbridge, mile 5.2, over Oakland Inner Harbor Tidal Canal, at Alameda, CA. The drawbridge navigation span provides a vertical clearance of 15 feet above Mean High Water in the closed-to-navigation position. The draw opens on signal; except that, from 8 a.m. to 9 a.m. and 4:30 p.m. to 6:30 p.m. Monday through Friday except Federal holidays, the draw need not be opened for the passage of vessels. However, the draw shall open during the closed periods for vessels which must, for reasons of safety, move on a tide or slack water, if at least two hours notice is given. Navigation on the waterway is commercial and recreational.

The Alameda (south) side of the bridge leaf of the double bascule drawspan may be secured in the closed-to-navigation position from 7 a.m., July 9, 2012 to 6 p.m. on July 18, 2012, to allow the County of Alameda Public Works Agency to perform necessary repairs on the bridge. The opposite leaf will continue to operate normally, providing unlimited vertical clearance and 120 feet horizontal clearance between leafs. This temporary deviation has been coordinated with waterway users. No objections to the proposed temporary deviation were raised.

In accordance with 33 CFR 117.35(e), the drawbridge must return to its regular operating schedule immediately at the end of the designated time period. This deviation from the operating regulations is authorized under 33 CFR 117.35.

Dated: June 27, 2012.
D.H. Sulouff,
District Bridge Chief, Eleventh Coast Guard District.

[FR Doc. 2012-16779 Filed 7-9-12; 8:45 am]

BILLING CODE 9110-04-P